DEPARTMENT OF TRANSPORTATION

Federal Aviation Administration

22nd Meeting: RTCA Special Committee 206: EUROCAE WG 76 Plenary: AIS and MET Data Link Services

AGENCY: Federal Aviation Administration (FAA), DOT.

ACTION: Notice of RTCA Special Committee 206: EUROCAE WG 76 Plenary: AIS and MET Data Link Services meeting.

SUMMARY: The FAA is issuing this notice to advise the public of a meeting of RTCA Special Committee 206: EUROCAE WG 76 Plenary: AIS and MET Data Link Services.

DATES: The meeting will be held October 5-7, 2010 from 9 a.m. to 5 p.m.

ADDRESSES: The meeting will be held at Eurocontrol, Jupiter Conference Room, Brussels, Belgium. Contact Person: Gerard Terrien, Eurocontrol, Phone: 32-2-729-3581.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting. The agenda will include:

5 October—Tuesday

• 9 a.m.—Opening Plenary.

• Chairmen's remarks and Host's comments.

• Introductions, approval of previous meeting minutes, review and approve meeting agenda.

• Schedule for this week.

• Action Item Review.

• 10 a.m. SPR FRAC Comment Review—Joint AIS and MET Subgroup Meetings.

6 October—Wednesday

• 9 a.m. SPR FRAC Comment Review—Joint AIS and MET Subgroup Meetings.

7 October—Thursday

• 9 a.m. SPR FRAC Comment Review—Joint AIS and MET Subgroup Meetings.

• 10:30 a.m. Plenary Session.

• Approve New Document—SPR for AIS and MET Data Link Services.

• Other Business.

• Meeting Plans and Dates.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 7, 2010.
Robert L. Bostiga,
RTCA Advisory Committee.

[FR Doc. 2010-22824 Filed 9-13-10; 8:45 am]

BILLING CODE 4910-13-P